DEPARTMENT OF THE INTERIOR

Bureau of Land Management

[LLORM070.L63100000.EU0000.13XL1116AF; OR-67105;HAG13-0126]

Notice of Realty Action: Proposed Direct Sale of Public Land in Josephine County, Oregon

AGENCY: Bureau of Land Management, Interior.

ACTION: Notice of realty action.

SUMMARY: The Bureau of Land Management (BLM) proposes to sell a 0.66-acre parcel of public land in Josephine County, Oregon, by direct sale procedures to Joan Conklin for the approved appraised fair market value of $300.

DATES: Comments regarding the proposed sale must be received by the BLM on or before June 10, 2013.

ADDRESSES: Written comments concerning this proposed sale may be submitted to Grants Pass Field Manager, Grants Pass Interagency Office, 2164 NE. Spalding Ave, Grants Pass, OR 97526.

FOR FURTHER INFORMATION CONTACT: Tanya Dent, Realty Specialist, at 3040 Biddle Road, Medford, OR 97504 or phone 541-618-2477. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Pursuant to Sections 203 and 209 of the Federal Land Policy and Management Act of 1976 (FLPMA), as amended (43 U.S.C. 1713 and 1719) and regulations at 43 CFR subparts 2710 and 2720, this conveyance will be made by direct sale procedures to Joan Conklin to resolve an inadvertent occupancy trespass that has been in existence since 1999 for the land described as follows:

Willamette Meridian, Oregon

T. 34 S., R. 5 W.,

Sec. 30, lots 5, 7 and 8.

Containing 0.66 acre, more or less.

The disposals of these lands are in conformance with the 1995 BLM Medford District Resource Management Plan as amended on August 2, 2002. Due to the location of the unintentional encroachments, the parcel is difficult and uneconomic to manage as public land. The BLM is proposing a direct sale of the 0.66 acre parcel which is the smallest legal subdivision that would wholly encompass the improvements that have been in existence on the parcel since 1999. A direct sale is appropriate because the corner of the residential house is located on this parcel. The public interest would be best served by disposing of this parcel to the occupant by direct sale. The disposal parcel contains no known mineral, geothermal or oil/gas values, and the mineral interests will be conveyed with the sale of the land. Conveyance of the identified public land will be subject to all valid existing rights of record and contain the following terms, conditions, and reservations.

a. A reservation of a right-of-way to the United States for ditches and canals constructed by the authority of the United States under the Act of August 30, 1890 (43 U.S.C. 945); and

b. An appropriate indemnification clause protecting the United States from claims arising out of the patentee's use, occupancy, or operation on the patented lands.

On April 24, 2013, the above described land will be segregated from appropriation under the public land laws, including the mining laws, except the sale provisions of FLPMA. Until completion of the sale, the BLM is no longer accepting land use applications affecting the identified public land. The temporary segregation effect will terminate upon issuance of a conveyance document, publication in the Federal Register of a termination of the segregation, or April 24, 2015, unless extended by the BLM Oregon/Washington State Director in accordance with 43 CFR 2711.1-2(d) prior to the termination date. Detailed information concerning the proposed land sale including the appraisal, planning and environmental documents, and mineral report are available for review at the BLM Medford District Office, 3040 Biddle Road, Medford, OR 97504. Normal business hours are 7:45 a.m. to 4:30 p.m., Monday through Friday, except Federal holidays.

Public comments regarding the proposed sale may be submitted in writing to the BLM Grants Pass Resource Area Field Manager (see ADDRESSES section) on or before June 10, 2013. Comments received by telephone or in electronic form, such as email or facsimile, will not be considered. Any adverse comments regarding the proposed sale will be reviewed by the BLM Oregon/Washington State Director or other authorized official of the Department of the Interior, who may sustain, vacate, or modify this realty action in whole or in part. In the absence of timely filed objections, this realty action will become the final determination of the Department of the Interior not less than 60 days from April 24, 2013.

Before including your address, phone number, email address, or other personal identifying information in your comment; you should be aware that your entire comment—including your personal identifying information—may be made publicly available at any time. While you can ask us in your comment to withhold your personal identifying information from public review, we cannot guarantee that we will be able to do so.

(Authorities: 43 CFR 2710, 2711 and 2720.)

Allen Bollschweiler,
Field Manager, Grants Pass Resource Area.

[FR Doc. 2013-09669 Filed 4-23-13; 8:45 am]

BILLING CODE 4310-33-P